DEPARTMENT OF TRANSPORTATION

Federal Railroad Administration

Petition for Waiver of Compliance

In accordance with Part 211 of Title 49 Code of Federal Regulations (CFR), notice is hereby given that the Federal Railroad Administration (FRA) has received a request for a waiver of compliance with certain requirements of its safety standards. The individual petition is described below, including the party seeking relief, the regulatory provisions involved, the nature of the relief being requested, and the petitioner's arguments in favor of relief.

Saint Louis Metro

[Docket Number FRA-2007-27207]

Saint Louis Metro (Metro), the provider of bus, paratransit, and light rail transit in the St. Louis Metropolitan Area, seeks a permanent waiver of compliance from sections of Title 49 of the CFR for operation of its MetroLink Light Rail over two at-grade rail diamond crossings that constitute a “limited connection” with the general railroad system. (See Statement of Agency Policy Concerning Jurisdiction Over the Safety of Railroad Passenger Operations and Waivers Related to Shared Use of the Tracks of the General Railroad System by Light Rail and Conventional Equipment, 65 FR 42529 (July 10, 2000). See also Joint Statement of Agency Policy Concerning Shared Use of the Tracks of the General Railroad System by Conventional Railroads and Light Rail Transit Systems, 65 FR 42526 (July 10, 2000).)

MetroLink consists of 44.8 miles of light rail tracks located in St. Louis County and the City of St. Louis, Missouri; and St. Clair County, Illinois, for the purpose of providing rapid transit operations within the St. Louis Metropolitan area. The MetroLink alignment is a double-track light rail alignment running at grade, above grade, below grade, and in tunnels with two-car consists. Revenue hours are from 3:45 a.m. to 1:15 a.m. daily. MetroLink currently crosses a single existing freight railroad industry lead known as the Grand Freight Diamond, thus constituting a limited connection to the general railroad system. Freight movements are conducted by Metro's contractor, Squaw Creek Southern Railroad, Inc., across this diamond crossing and are temporally separated, occurring only during MetroLink's nonrevenue hours of 1:15 a.m. to 3:45 a.m.

For this limited connection, Metro seeks permanent waiver of compliance from the following Parts of 49 CFR: Part 217—Railroad Operating Rules, Part 219—Control of Alcohol and Drug Use, Part 220—Railroad Communications, Part 221—Rear End Marking Devices, Part 223—Safety Glazing Standards, Part 238—Passenger Equipment Safety Standards, and Part 239—Passenger Emergency Preparedness. Metro offers that it is similarly governed by the System Safety Program Plan as required by the Federal Transit Administration (FTA) and administered by the Missouri Department of Transportation (Momot).

Interested parties are invited to participate in these proceedings by submitting written views, data, or comments. FRA does not anticipate scheduling a public hearing in connection with these proceedings since the facts do not appear to warrant a hearing. If any interested party desires an opportunity for oral comment, they should notify FRA in writing before the end of the comment period and specify the basis for their request.

All communications concerning these proceedings should identify the appropriate docket number (e.g., Waiver Petition Docket Number 2007-27207) and must be submitted to the Docket Clerk, DOT Docket Management Facility, Room PL-401 (Plaza Level), 400 7th Street, SW., Washington, DC 20590. Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on February 23, 2007.
Grady C. Cothen, Jr.,
Deputy Associate Administrator for Safety Standards and Program Development.

[FR Doc. E7-3449 Filed 2-27-07; 8:45 am]

BILLING CODE 4910-06-P